DEPARTMENT OF HOMELAND SECURITY

Coast Guard

33 CFR Part 117

[Docket No. USCG-2014-0848]

Drawbridge Operation Regulation; Sacramento River, Rio Vista, CA

AGENCY: Coast Guard, DHS.

ACTION: Notice of deviation from drawbridge regulation.

SUMMARY: The Coast Guard has issued a temporary deviation from the operating schedule that governs the Rio Vista Drawbridge across Sacramento River, mile 12.8, at Rio Vista, CA. The deviation is necessary to allow the bridge owner to make necessary bridge maintenance repairs. This deviation allows the bridge to open on four hours advance notice during the deviation period.

DATES: This deviation is effective without actual notice from October 2, 2014 through 6 a.m. on October 17, 2014. For the purposes of enforcement, actual notice will be used from 9 p.m. on September 22, 2014, until October 2, 2014.

ADDRESSES: The docket for this deviation, [USCG-2014-0848], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: The California Department of Transportation has requested a temporary change to the operation of the Rio Vista Drawbridge, mile 12.8, over Sacramento River, at Rio Vista, CA. The drawbridge navigation span provides 18 feet vertical clearance above Mean High Water in the closed-to-navigation position. In accordance with 33 CFR 117.5, the draw opens on signal. Navigation on the waterway is commercial, search and rescue, law enforcement, and recreational.

A four-hour advance notice for openings is required from 9 p.m. to 6 a.m. daily, from September 22, 2014 to October 17, 2014, to allow the bridge owner to repair the concrete vertical lift span deck. This temporary deviation has been coordinated with the waterway users. No objections to the temporary deviation were raised.

Vessels able to pass through the bridge in the closed position may do so at any time. The bridge will be able to open for emergencies with four hour advance notice. No alternative route is available for navigation. The Coast Guard will inform waterway users of this temporary deviation via our Local and Broadcast Notices to Mariners, to minimize resulting navigational impacts.

In accordance with 33 CFR 117.35(e), the drawbridge must return to its regular operating schedule immediately at the end of the effective period of this temporary deviation. This deviation from the operating regulations is authorized under 33 CFR 117.35.

Dated: September 15, 2014.
D.H. Sulouff,
District Bridge Chief, Eleventh Coast Guard District.

[FR Doc. 2014-23540 Filed 10-1-14; 8:45 am]

BILLING CODE 9110-04-P